DEPARTMENT OF COMMERCE

National Oceanic and Atmospheric Administration

[I.D. 030600C]

Western Pacific Fishery Management Council; Public Meeting

AGENCY: National Marine Fisheries Service (NMFS), National Oceanic and Atmospheric Administration (NOAA), Commerce.

ACTION: Notice of public meeting.

SUMMARY: The Western Pacific Fishery Management Council's (Council) Recreational Fisheries Data Task Force (RFDTF) will hold a meeting.

DATES: The meeting will be held March 22, 2000, from 8:30 a.m. to 5:00 p.m.

ADDRESSES: The meeting will be held at the Council office, 1164 Bishop St., Suite 1400, Honolulu, HI 96813.

FOR FURTHER INFORMATION CONTACT: Kitty M. Simonds, Executive Director; telephone: 808-522-8220.

SUPPLEMENTARY INFORMATION: This will be the fourth meeting of the RFDTF which will discuss the following topics: review of minutes from third Task Force meeting, report of Task Force working group meeting on developing materials and strategies for obtaining recreational fishery data from fishing and boat clubs, Chairman's report on Task Force presentations to Council and Scientific and Statistical Committee, reports on recent international meetings on sharks, tagging of fishes with satellite and archival tags, upcoming meetings including the international management of tuna in the Central-Western Pacific and managing marine recreational fisheries in the 21st century, and other business as required.

Although non-emergency issues not contained in this agenda may come before this group for discussion, in accordance with the Magnuson-Stevens Fishery Conservation and Management Act, those issues may not be the subject of formal action during this meeting. Action will be restricted to those issues specifically identified in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Kitty M. Simonds, 808-522-8220 (voice) or 808-522-8226 (fax), at least 5 days prior to meeting date.

Dated: March 7, 2000.
Richard W. Surdi,
Acting Director, Office of Sustainable Fisheries, National Marine Fisheries Service.

[FR Doc. 00-5928 Filed 3-9-00; 8:45 am]

BILLING CODE 3510-22-F